EXPORT-IMPORT BANK OF THE UNITED STATES

Economic Impact Policy

This notice is to inform the public that the Export-Import Bank of the United States has received an application for a $1.74 billion loan to support the export of approximately $1.5 billion worth of mining, port and rail equipment to Australia. The U.S. exports will enable the Australian mining company to increase production by about 100 million metric tons of iron ore per year during the 8.5-year repayment term of the financing. Available information indicates that all of the additional Australian iron ore production will be sold in China, Japan and Korea. Interested parties may submit comments on this transaction by email to economic.impact@exim.gov or by mail to 811 Vermont Avenue NW., Room 1051, Washington, DC 20571, within 14 days of the date this notice appears in the Federal Register.

David M. Sena,
Vice President, Treasurer and Chief Financial Officer (acting).

[FR Doc. 2012-2837 Filed 2-7-12; 8:45 am]

BILLING CODE 6690-01-P